NUCLEAR REGULATORY COMMISSION

[Docket Nos. 50-338 and 50-339]

Virginia Electric and Power Company; Notice of Withdrawal of Application for Amendment to Facility Operating License

The U.S. Nuclear Regulatory Commission (the Commission) has granted the request of Virginia Electric and Power Company to withdraw its May 3, 1999, application, as supplemented March 16, 2000, for proposed amendment to Facility Operating License Numbers NPF-4 and NPF-7, for the North Anna Power Station, Units 1 and 2, located in Louisa County, Virginia.

The proposed amendment would have revised the Technical Specifications to ensure the emergency ventilation system is maintained operable consistent with the assumptions in the radiological dose consequences re-analysis from a large break loss-of-coolant accident, and to clearly identify that the ventilation system is a shared system between the two units.

The Commission had previously issued a Notice of Consideration of Issuance of Amendment published in the Federal Register on June 16, 1999 (64 FR 32291). However, by letter dated July 25, 2000, the licensee withdrew the proposed change.

For further details with respect to this action, see the application for amendment dated May 3, 1999, supplement dated March 16, 2000, and the licensee's letter dated July 25, 2000, which withdrew the application for license amendment. The above documents are available for public inspection at the Commission's Public Document Room, the Gelman Building, 2120 L Street, NW., Washington, DC, and accessible electronically through the ADAMS Public Electronic Reading Room link at the NRC Web site ­(http://www.nrc.gov).

Dated at Rockville, Maryland, this 28th day of July 2000.
For the Nuclear Regulatory Commission.
Stephen Monarque,
Project Manager, Section 1, Project Directorate II, Division of Licensing Project Management, Office of Nuclear Reactor Regulation.

[FR Doc. 00-19759 Filed 8-3-00; 8:45 am]

BILLING CODE 7590-01-U